NUCLEAR REGULATORY COMMISSION

[Docket No. 50-315; License No. DPR-58; NRC-2009-0111]

Indiana Michigan Power Company; Receipt of Request for Action Under 10 CFR 2.206

Notice is hereby given that by petition dated December 16, 2008, Mr. David Lochbaum (petitioner) has requested that the U.S. Nuclear Regulatory Commission (NRC) take action with regard to the licensee for the Donald C. Cook Nuclear Power Plant, Unit 1. The petitioner requests that the NRC issue a demand for information requiring the licensee to docket information regarding the following four issues at least 30 days before restarting the reactor from the current outage:

(1) The vibration levels experienced in the control room, turbine building, and other structures during the September 20, 2008, event;

(2) The vibration levels assumed in these locations during the safe-shutdown earthquake (SSE);

(3) In locations where the vibration levels during the September 20, 2008, event exceeded the vibration levels assumed for an SSE, the extent to which piping and pipe supports were replaced or repaired because of potential stress damage and the bases for not replacing other structures, systems, and components exposed to greater than SSE loading; and

(4) In locations where the vibration levels during the September 20, 2008, event did not exceed the vibration levels assumed for an SSE, the extent of the measures taken to protect against spurious equipment operation and the bases for concluding that the as-left configuration will not pose a public health hazard in event of an SSE.

As the basis for this request, the petitioner states that the event caused significant vibration levels that caused spurious operation of standby equipment and may have contributed to a breach that seriously impaired the fire protection system. The petitioner further states that the information being sought in the petition is needed to apply the proper lessons from the event to the future operation of the Donald C. Cook Nuclear Plant, Unit 1. The petitioner states that without this information, the NRC cannot be assured of, and the public is therefore not adequately protected from, significant adverse safety implications of an SSE causing spurious actuation of equipment.

The NRC is treating the request pursuant to Title 10, Section 2.206, “Requests for Action under This Subpart,” of the Code of Federal Regulations (10 CFR 2.206). The request has been referred to the Director of the Office of Nuclear Reactor Regulation. As provided by 10 CFR 2.206, the NRC will take appropriate action on this petition within a reasonable time. A copy of the petition is available for inspection at the Commission's Public Document Room (PDR), located at One White Flint North, Public File Area O1 F21, 11555 Rockville Pike (first floor), Rockville, MD. Publicly available records will be accessible from the Agencywide Documents Access and Management System (ADAMS) Public Electronic Reading Room on the Internet at the NRC Web site, http://www.nrc.gov/reading-rm/adams.html. Persons who do not have access to ADAMS or who encounter problems in accessing the documents located in ADAMS should contact the NRC PDR reference staff by telephone at 1-800-397-4209 or 301-415-4737, or by e-mail to PDR.Resource@nrc.gov.

Dated at Rockville, Maryland, this 6th day of March 2009.
For the Nuclear Regulatory Commission.
Eric J. Leeds,
Director, Office of Nuclear Reactor Regulation.

[FR Doc. E9-5614 Filed 3-13-09; 8:45 am]

BILLING CODE 7590-01-P